DEPARTMENT OF LABOR

Occupational Safety and Health Administration

[Docket No. OSHA-2013-0016]

Nemko North America, Inc.: Grant of Expansion of Recognition

AGENCY: Occupational Safety and Health Administration (OSHA), Labor.

ACTION: Notice.

SUMMARY: In this notice, OSHA announces the final decision to expand the scope of recognition for Nemko North America, Inc. (NNA) as a Nationally Recognized Testing Laboratory (NRTL).

DATES: The expansion of the scope of recognition becomes effective on July 29, 2024.

FOR FURTHER INFORMATION CONTACT: Information regarding this notice is available from the following sources:

Press inquiries: Contact Mr. Frank Meilinger, Director, OSHA Office of Communications, phone: (202) 693-1999 or email: meilinger.francis2@dol.gov.

General and technical information: Contact Mr. Kevin Robinson, Director, Office of Technical Programs and Coordination Activities, Directorate of Technical Support and Emergency Management, Occupational Safety and Health Administration, phone: (202) 693-1911 or email: robinson.kevin@dol.gov.

SUPPLEMENTARY INFORMATION:

I. Notice of Final Decision

OSHA hereby gives notice of the expansion of the scope of recognition of Nemko North America, Inc. (NNA) as a NRTL. NNA's expansion covers the addition of nineteen test standards and one testing site to the NRTL scope of recognition.

OSHA recognition of a NRTL signifies that the organization meets the requirements specified in 29 CFR 1910.7. Recognition is an acknowledgment that the organization can perform independent safety testing and certification of the specific products covered within its scope of recognition. Each NRTL's scope of recognition includes (1) the type of products the NRTL may test, with each type specified by its applicable test standard; and (2) the recognized site(s) that has/have the technical capability to perform the product-testing and product-certification activities for test standards within the NRTL's scope. Recognition is not a delegation or grant of government authority; however, recognition enables employers to use products approved by the NRTL to meet OSHA standards that require product testing and certification.

The agency processes an application by a NRTL for initial recognition and for an expansion or renewal of this recognition, following requirements in appendix A, 29 CFR 1910.7. This appendix requires that the agency publish two notices in the Federal Register in processing an application. In the first notice, OSHA announces the application and provides its preliminary finding. In the second notice, the agency provides the final decision on the application. These notices set forth the NRTL's scope of recognition or modifications of that scope. OSHA maintains an informational web page for each NRTL, including NNA, which details the NRTL's scope of recognition. These pages are available from the OSHA website at: https://www.osha.gov/nationally-recognized-testing-laboratory-program.

NNA submitted an application to OSHA for expansion of the NRTL scope of recognition. The application, dated October 24, 2023 (OSHA-2013-0016-0026), requested the expansion of the NRTL scope of recognition to include one additional test site located at: 1601 N. A.W. Grimes Blvd., Suite B, Round Rock, Texas 78665 and nineteen additional test standards. OSHA staff performed an on-site review of NNA's testing facilities at NNA Austin, Texas on January 23-24, 2024, in which assessors found some nonconformances with the requirements of 29 CFR 1910.7. NNA has addressed these issues sufficiently, and OSHA staff has preliminarily determined that OSHA should grant the application.

OSHA published the preliminary notice announcing NNA's expansion application in the Federal Register on May 28, 2024 (89 FR 46165). The agency requested comments by June 12, 2024, but it received no comments in response to this notice. OSHA is now proceeding with this final grant of expansion to NNA's NRTL scope of recognition.

Docket No. OSHA-2013-0016 contains all materials in the record concerning NNA's recognition. To obtain or review copies of all public documents pertaining to NNA's expansion application, go to http://www.regulations.gov. All submissions, including copyrighted material, are available for inspection through the OSHA Docket Office. Contact the OSHA Docket Office at (202) 693-2350 for assistance in locating docket submissions.

II. Final Decision and Order

OSHA staff examined NNA's expansion application, its capability to meet the requirements of the test standards, and other pertinent information. Based on its review of this evidence, OSHA finds that NNA meets the requirements of 29 CFR 1910.7 for expansion of its recognition, subject to the limitations and conditions listed in this notice. OSHA, therefore, is proceeding with this final notice to grant NNA's expanded scope of recognition. OSHA limits the expansion of NNA's recognition to the recognized testing site in Round Rock, Texas and testing and certification of products for demonstration of conformance to the test standard listed below in table 1.

Table 1—List of Appropriate Test Standards for Inclusion in NNA's NRTL Scope of Recognition
Test standard | Test standard title
UL 60079-0 | Explosive Atmospheres—Part 0: Equipment—General Requirements.
UL 60079-1 | Explosive Atmospheres—Part 1: Equipment Protection by Flameproof Enclosures “d”.
UL 60079-2 | Explosive Atmospheres—Part 2: Equipment Protection by Pressurized Enclosures “p”.
UL 60079-5 | Explosive Atmospheres—Part 5: Equipment Protection by Powder Filling “q”.
UL 60079-6 | Explosive Atmospheres—Part 6: Equipment Protection by Oil Immersion “o”.
UL 60079-7 | Explosive Atmospheres—Part 7: Equipment Protection by Increased Safety “e”.
UL 60079-11 | Explosive Atmospheres—Part 11: Equipment Protection by Intrinsic Safety “i”.
UL 60079-15 | Explosive Atmospheres—Part 15: Equipment Protection by Type of Protection “n”.
UL 60079-18 | Explosive Atmospheres—Part 18: Equipment Protection by Encapsulation “m”.
UL 60079-25 | Explosive Atmospheres—Part 25: Intrinsically Safe Electrical Systems.
UL 60079-28 | Standard for Explosive Atmospheres—Part 28: Protection of Equipment and Transmission Systems Using Optical Radiation.
UL 60079-31 | Standard for Explosive Atmospheres—Part 31: Equipment Dust Ignition Protection Enclosure “t”.
NFPA 496 | Purged and Pressurized Enclosures for Electrical Equipment.
UL 913 | Intrinsically Safe Apparatus and Associated Apparatus for Use in Class I, II and III, Division I, Hazardous (Classified) Locations.
UL 121201 | Nonincendive Electrical Equipment for Use in Class I and II, Division 2 and Class III, Division 1 and 2 Hazardous (Classified) Locations.
TIA 4950 | Requirements for Battery-Powered, Portable Land Mobile Radio Applications in Class I, II, and III, Division I, Hazardous (Classified) Locations.
UL 1203 | Explosion-Proof and Dust-Ignition-Proof Electrical Equipment for Use in Hazardous (Classified) Locations.
UL 674 | Electric Motors and Generators for Use in Hazardous (Classified) Locations.
UL 698A | Industrial Control Panels Relating to Hazardous (Classified) Locations.

OSHA's recognition of any NRTL for a particular test standard is limited to equipment or materials for which OSHA standards require third-party testing and certification before using them in the workplace. Consequently, if a test standard also covers any products for which OSHA does not require such testing and certification, a NRTL's scope of recognition does not include these products.

A. Conditions

Recognition is contingent on continued compliance with 29 CFR 1910.7, including, but not limited to, abiding by the following conditions of the recognition:

1. NNA must inform OSHA as soon as possible, in writing, of any change of ownership, facilities, or key personnel, and of any major change in its operations as a NRTL, and provide details of the change(s);

2. NNA must meet all the terms of its recognition and comply with all OSHA policies pertaining to this recognition; and

3. NNA must continue to meet the requirements for recognition, including all previously published conditions on NNA's scope of recognition, in all areas for which it has recognition.

Pursuant to the authority in 29 CFR 1910.7, OSHA hereby expands the scope of recognition of NNA as a NRTL to include nineteen additional test standards and an additional testing site in Round Rock, Texas, subject to the limitations and conditions specified above.

III. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC, on July 17, 2024.
James S. Frederick,
Deputy Assistant Secretary of Labor for Occupational Safety and Health.

[FR Doc. 2024-16561 Filed 7-26-24; 8:45 am]

BILLING CODE 4510-26-P